DEPARTMENT OF HOMELAND SECURITY

Coast Guard

[Docket No. USCG-2010-0164]

National Boating Safety Advisory Committee; Oct 2021 Teleconference

AGENCY: U.S. Coast Guard, Department of Homeland Security.

ACTION: Notice of Federal Advisory Committee teleconference meeting.

SUMMARY: The National Boating Safety Advisory Committee (Committee) and its subcommittees will meet via teleconference to discuss matters relating to recreational boating safety. The meeting will be open to the public.

DATES:

Meeting: The National Boating Safety Advisory Committee will meet by teleconference on Thursday, October 21, 2021 from 12:00 p.m. until 4:30 p.m., (Eastern Daylight Time). The teleconference may adjourn early if the Committee has completed its business.

Comments and supporting documentation: To ensure your comments are received by Committee members before the teleconference, submit your written comments no later than October 14, 2021.

ADDRESSES: To join the teleconference or to request special accommodations, contact the individual listed in the FOR FURTHER INFORMATION CONTACT section no later than 1 p.m. on October 19, 2021, to obtain the needed information. The number of teleconference lines are limited and will be available on a first-come, first-served basis.

Instructions: You are free to submit comments at any time, including orally at the teleconference as time permits, but if you want Committee members to review your comments before the teleconference, please submit your comments no later than October 14, 2021. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the docket number [USCG-2010-0164]. Comments received will be posted without alteration at https://www.regulations.gov, including any personal information provided. You may wish to view the Privacy and Security notice available on the homepage of https://regulations.gov and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Jeff Decker, Alternate Designated Federal Officer of the National Boating Safety Advisory Committee, 2703 Martin Luther King Jr. Ave. SE, Stop 7509, Washington, DC 20593-7509, telephone 202-372-1507 or NBSAC@uscg.mil.

SUPPLEMENTARY INFORMATION: Notice of this meeting is given pursuant to the Federal Advisory Committee Act, (5, U.S.C. Appendix). The National Boating Safety Advisory Committee was established on December 4, 2018, by § 601 of the Frank LoBiondo Coast Guard Authorization Act of 2018 (Pub. L. 115-282, 132 Stat. 4192). That authority is codified in 46 U.S.C. 15105. The Committee operates under the provisions of the Federal Advisory Committee Act (5 U.S.C. Appendix) in addition to the administrative provisions for the National Maritime Transportation Advisory Committees in 46 U.S.C. 15109. The National Boating Safety Advisory Committee provides advice and recommendations to the Department of Homeland Security on matters relating to recreational vessels and associated equipment and on other safety matters related to recreational vessels.

Agenda

The agenda for the National Boating Safety Advisory Committee meeting is as follows:

Thursday, October 21, 2021

(1) Call to Order.

(2) Roll call and determination of quorum.

(3) Opening remarks.

(4) Swearing-in of new appointees.

(5) Election by Committee members of Chairman and Vice-Chairman.

(6) Receipt and discussion of the following reports from the Office of Auxiliary and Boating Safety:

(a) Update on Resolutions.

(b) Strategic Planning.

(c) Boating Incident Reporting Project.

(d) Recreational Boating Regulations Status Report.

(e) Taskers, expectations/topics.

(f) Analysis Projects.

(g) 2020 Recreational Boating Annual Statistics.

(h) Review of Non-profit Grant Products.

(i) 2022 Areas of Interest.

(7) Public Comment Period.

(8) Closing remarks/plans for next meeting.

(9) Adjournment of meeting.

A copy of all meeting documentation will be available at https://homeport.uscg.mil/missions/ports-and-waterways/safety-advisory-committees/nbsac no later than October 14, 2021. Alternatively, you may contact Mr. Jeff Decker as noted in the FOR FURTHER INFORMATION section above.

During the October 21, 2021 teleconference, a public comment period will be held from approximately 2:30 p.m.-2:45 p.m. Public comments will be limited to two minutes per speaker. Please note that the public comment periods will end following the last call for comments.

Please contact the individual listed in the FOR FURTHER INFORMATION CONTACT section, to register as a speaker.

Wayne R. Arguin, Jr.,
Captain, U.S. Coast Guard, Director of Inspections and Compliance.

[FR Doc. 2021-21158 Filed 9-28-21; 8:45 am]

BILLING CODE 9110-04-P